DEPARTMENT OF COMMERCE

International Trade Administration

[A-570-888]

Floor-Standing Metal-Top Ironing Tables and Parts Thereof from the People's Republic of China: Final Results of Expedited Five-year (Sunset) Review of Antidumping Duty Order

AGENCY: Import Administration, International Trade Administration, Department of Commerce.

SUMMARY: On July 1, 2009, the Department of Commerce (the Department) initiated a sunset review of the antidumping duty order on floor-standing metal-top ironing tables and parts thereof (ironing tables) from the People's Republic of China (the PRC) pursuant to section 751(c) of the Tariff Act of 1930, as amended (the Act). The Department conducted an expedited (120-day) sunset review of this antidumping duty order. As a result of this sunset review, the Department finds that revocation of the antidumping duty order would be likely to lead to continuation or recurrence of dumping at the levels identified below in the “Final Results of Review” section of this notice.

EFFECTIVE DATE: November 3, 2009.

FOR FURTHER INFORMATION: David Cordell, AD/CVD Operations, Office 7, or Dana Mermelstein, AD/CVD Operations, Office 6, Import Administration, International Trade Administration, U.S. Department of Commerce, 14th Street and Constitution Avenue, NW, Washington, DC 20230; telephone: (202) 482-0408, or (202) 482-1391, respectively.

SUPPLEMENTARY INFORMATION:

Background

On July 1, 2009, the Department initiated a sunset review of the antidumping duty order on ironing tables from the PRC pursuant to section 751(c) of the Act. See Initiation of Five-year (Sunset) Reviews, 74 FR 31412 (July 1, 2009). The Department received a notice of intent to participate from one domestic interested party, Home Products International (HPI), within the deadline specified in 19 CFR 351.218(d)(1)(i) of the Department's regulations. HPI claimed interested party status under section 771(9)(C) of the Act as a domestic producer of the domestic like product. We received a complete substantive response from HPI within the 30-day deadline specified in 19 CFR 351.218(d)(3)(i).

The Department also received a substantive response from one respondent party, Since Hardware (Guangzhou) Co., Ltd. (Since Hardware) within the 30-day deadline specified in 19 CFR 351.218(d)(3)(i). On August 5, 2009 HPI submitted rebuttal comments to Since Hardware's substantive response. On August 19, 2009 the Department determined Since Hardware's substantive response to be inadequate because it failed to meet certain requirements in 19 CFR 351.218(c)(1)(ii)(A) and (d)(3)(iii)(E). For a more detailed discussion of the Department's determination regarding Since Hardware's substantive response, please see the Memorandum to the File, “Adequacy Determination of Respondent's Substantive Comments: Sunset Review of the Antidumping Duty Order on Floor-Standing Metal-Top Ironing Tables and Parts Thereof from the People's Republic of China (PRC)” dated August 19, 2009. As a result of the foregoing, the Department conducted an expedited (120-day) sunset review of this order pursuant to section 751(C)(3)(B) of the Act and 19 CFR 351.218(e)(1)(ii)(c)(2).

Scope of the Order

For purposes of the order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this order.

Furthermore, the order specifically covers imports of ironing tables, assembled or unassembled, complete or incomplete, and certain parts thereof. For purposes of this order, the term “unassembled” ironing table means a product requiring the attachment of the leg assembly to the top or the attachment of an included feature such as an iron rest or linen rack. The term “complete”' ironing table means a product sold as a ready-to-use ensemble consisting of the metal-top table and a pad and cover, with or without additional features, e.g., iron rest or linen rack. The term “incomplete” ironing table means product shipped or sold as a “bare board” i.e., a metal-top table only, without the pad and cover, with or without additional features, e.g. iron rest or linen rack. The major parts or components of ironing tables that are intended to be covered by the order under the term “certain parts thereof"' consist of the metal top component (with or without assembled supports and slides) and/or the leg components, whether or not attached together as a leg assembly. This order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables are currently classifiable under HTSUS subheading 9403.20.0011. The subject metal top and leg components are classified under HTSUS subheading 9403.90.8040. Although the HTS subheadings are provided for convenience and Customs purposes, the written description of the scope remains dispositive.

Analysis of Comments Received

All issues raised in this case are addressed in the “Issues and Decision Memorandum” from Richard Weible, Director Office 7 to John M. Andersen, Acting Deputy Assistant Secretary for AD/CVD Operations, Import Administration, dated October 27, 2009 (Decision Memorandum), which is hereby adopted by this notice. The issues discussed in the Decision Memorandum include the likelihood of continuation or recurrence of dumping and the magnitude of the margin likely to prevail if the order was revoked. Parties can find a complete discussion of all issues raised in this sunset review and the corresponding recommendations in this public memorandum, which is on file in room 1117 of the main Commerce building. In addition, a complete version of the Decision Memorandum can be accessed directly on the Internet at http://ia.ita.doc.gov/frn/. The paper copy and electronic version of the Decision Memorandum are identical in content.

Final Results of Sunset Reviews

We determine that revocation of the antidumping duty order on ironing tables from the PRC would likely lead to continuation or recurrence of dumping at the following percentage weighted-average margins:

Manufacturers/Exporters/Producers | Weighted-Average Margin (Percent)
Since Hardware | 9.47 percent
Shunde Yongjian | 157.68 percent
Forever Holdings | 72.29 percent
Gaoming | 72.29 percent
Harvest | 72.29 percent
Foshan Shunde | 157.68 percent
PRC-Wide Rate | 157.68 percent

This notice serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and this notice in accordance with sections 751(c), 752(c), and 777(i)(1) of the Act.

Dated: October 27, 2009.
John M. Andersen,
Acting Deputy Assistant Secretary for Antidumping and Countervailing Duty Operations.

[FR Doc. E9-26426 Filed 11-2-09; 8:45 am]

BILLING CODE 3510-DS-S